DEPARTMENT OF LABOR

Employment and Training Administration

[TA-W-58,808]

Lexmark International, Inc., Supply Chain Workforce, Printing Solutions & Services Division, Lexington, KY; Notice of Negative Determination on Reconsideration

On April 13, 2006, the Department issued an Affirmative Determination Regarding Application for Reconsideration for the workers and former workers of Lexmark International, Inc., Supply Chain Workforce, Printing Solutions & Services Division, Lexington, Kentucky (subject firm). The Notice was published in the Federal Register on April 24, 2006 (71 FR 21042).

The subject workers are engaged in product planning, purchasing of components, support and engineering, logistics, operations, and vendor relations.

In the initial investigation, the Department had determined that although production occurred within the firm or appropriate subdivision, the subject workers do not directly support this production. The Department had also found that the predominant cause of worker separations was Lexmark International, Inc.'s decision to position tasks to other domestic locations in order to be closer to their production partners and customers, who are located worldwide.

Workers of Lexmark International, Inc., Lexington, Kentucky were certified as eligible to apply for Trade Adjustment Assistance (TAA) on February 12, 2002 (TA-W-40,395) based on increased company imports of printers and inkjet cartridges.

In the request for reconsideration, the petitioner asserts that the subject workers supported the production of components (ink) of articles produced by the subject firm (ink and printer cartridges) and that their support functions were shifted abroad when cartridge production shifted abroad.

New information provided by the subject firm during the reconsideration investigation supports the finding that the subject workers purchased ink components which were used in the ink that was inserted into the ink cartridges which were used in the printers produced by the subject firm. As such, the workers are an integral part of ink and printer cartridge production.

Under the statute, the subject worker group must be employed by a firm (or an appropriate subdivision) which produced an article domestically during the twelve month period prior to the petition date. During the reconsideration investigation, the Department confirmed that neither the subject firm nor Lexmark International, Inc. produced ink or cartridges domestically during the relevant perioid.

Therefore, the Department determines that the subject workers are not employed by a company covered by the statute and are not eligible to apply for TAA.

In addition, in accordance with section 246 of the Trade Act of 1974 (26 U.S.C. 2813), as amended, the Department herein presents the results of its investigation regarding certification of eligibility to apply for ATAA for older workers.

In order for the Department to issue a certification of eligibility to apply for ATAA, the subject worker group must be certified eligible to apply for TAA. Since the subject workers are denied eligibility to apply for TAA, they cannot be certified eligible for ATAA.

Conclusion

After review of the application and investigative findings, I conclude that there has been no error or misinterpretation of the law or of the facts which would justify revision of the Department of Labor's prior decision. Accordingly, the application is denied.

Signed at Washington, DC, this 19th day of July 2006.
Elliott S. Kushner,
Certifying Officer, Division of Trade Adjustment Assistance.

[FR Doc. E6-12196 Filed 7-28-06; 8:45 am]

BILLING CODE 4510-30-P